DEPARTMENT OF VETERANS AFFAIRS

Special Medical Advisory Group; Notice of Meeting

The Department of Veterans Affairs (VA) gives notice under Public Law 92-463 (Federal Advisory Committee Act) that a meeting of the Special Medical Advisory Group (SMAG) will be held on Tuesday, April 22, 2003. The meeting will convene at 9 a.m. and end at 2 p.m. The meeting will be held at the Department of Veterans Affairs, 810 Vermont Avenue, NW., Room 830, Washington, DC 20420. The meeting is open to the public.

The purpose of SMAG is to advise the Secretary of Veterans Affairs and the Under Secretary for Health on matters relating to the care and treatment of veterans and other matters pertinent to the operations of the Veterans Health Administration (i.e., research, education and training of health manpower, and VA/DOD contingency planning).

The meeting will focus on discussions of various strategic clinical issues affecting VA's delivery of health care services. Those issues include ongoing emergency preparedness activities and plans to carry out VA's mission as a health care back up to the Defense Department during certain national emergencies.

No time will be allocated at this meeting for receiving oral presentations from the public. Interested parties can provide written comments for review by the Committee in advance to the meeting to Ms. Terrie Brown, Designated Federal Officer, Department of Veterans Affairs, Veterans Health Administration (10B), 810 Vermont Avenue, NW., Washington, DC 20420. Those wishing to attend should contact Ms. Sylvia Best, Office of the Under Secretary for Health, Department of Veterans Affairs, at (202) 273-5806.

Dated: March 26, 2003.
By Direction of the Secretary.
E. Philip Riggin,
Committee Management Officer.

[FR Doc. 03-8159 Filed 4-2-03; 8:45 am]

BILLING CODE 8320-01-M